DEPARTMENT OF TRANSPORTATION

Federal Highway Administration

Environmental Impact Statement: St. Charles and Jefferson Parishes, LA

AGENCY: Federal Highway Administration (FHWA), DOT.

ACTION: Notice of intent.

SUMMARY: The FHWA is issuing this notice to advise the public that an Environmental Impact Statement (EIS) will be prepared for proposed road project (State Project No. 700-92-0011 and Federal Aid Project No. NH-9201(501)) in St. Charles and Jefferson Parishes, Louisiana.

FOR FURTHER INFORMATION CONTACT: William C. Farr, Program operation Manager, Federal Highway Administration, 5304 Flanders Drive, Suite A, Baton Rouge, Louisiana 70802, Telephone: (225) 757-7615; and Vince Russo, Environmental Engineer Administrator, Louisiana Department of Transportation and Development, 5040 Florida Boulevard, Room 204A, POB 94245, Baton Rouge, Louisiana, 70804, Telephone: (225) 248-4190. Additional information may also be obtained at the I-49 Web site: http://www.i49south.org.

SUPPLEMENTARY INFORMATION: Pursuant to title 23, Code of Federal Regulations, part 771, Environmental Impact and Related Procedures, the FHWA, in cooperation with the Louisiana Department of Transportation and Development, will prepare an EIS in accordance with the National Environmental Policy Act (NEPA) on a proposal to improve U.S. Route 90 (U.S. 90) in St. Charles and Jefferson Parishes, Louisiana. The proposed improvement would involve an upgrade of the existing roadway to Federal Interstate Standards on existing alignment and/or new alignment and name the new facility Interstate 49 (I-49). The proposed project is between LA 306 to the west of the I-310 Interchange to the West Bank Expressway with a length of approximately 20 miles.

Improvements to the corridor are considered necessary to provide for the existing and projected traffic demand, and hurricane evacuation. Also, included in this proposal is a new improved interchange with Interstate Highway 310 (I-310) just west of Boutte, Louisiana. Alternatives under consideration include (1) taking no action (no-build); (2) improving the existing facility on existing alignment from a four-lane open access roadway to a full control of access roadway according to Federal Interstate Standards; and (3) improving the existing facility on existing alignment to the maximum extent practicable and on new alignment where required from a four-lane open to limited access roadway to a full control of access roadway according to Federal Interstate Standards, and (4) building a new full control of access four—lane roadway all on new alignment according to Federal Interstate Standards. Incorporated into and studied with the various build alternatives will be design variations of grade and alignment along with various geometric concepts on the segment U.S. 90/I-49 between the Huey P. Long Bridge and the end of the project to the east.

Letters describing the proposed action and soliciting comments will be sent to appropriate Federal, State, and local agencies, and to private organizations and citizens who have previously expressed or are known to have interest in this proposal. A series of three (3) public meetings will be held in the project area in St. Charles and Jefferson Parishes in 2003 and early 2004. In addition, a Public Hearing will be held. Public notice will be given of the time and place of the meetings and the Hearing. The draft EIS will be available for public and agency review and comment prior to the Public Hearing. A formal scoping meeting is planned for April or May of 2003. Public notice will be given of the time and place of the scoping meeting.

To ensure that the full range of issues related to this proposed action are addressed and all significant issues identified, comments, and suggestions are invited from all interested parties. Comments or questions concerning this proposed action and the EIS should be directed to the FHWA at the address provided above. Anyone wishing to be placed on the mailing list for future notices and announcements concerning this project may request so by writing the FHWA at the address provided above.

(Catalog of Federal Domestic Assistance Program Number 20.205, Highway Research, Planning, and Construction. The regulations implementing Executive order 12372 regarding intergovernmental consultation on Federal programs and activities apply to this program)
Issued on April 1, 2003.
William A. Sussmann,
Division Administrator, Baton Rouge, Louisiana.

[FR Doc. 03-8331 Filed 4-4-03; 8:45 am]

BILLING CODE 4910-22-M